DEPARTMENT OF JUSTICE

[OMB Number 1121-0218]

Agency Information Collection Activities; Proposed eCollection eComments Requested; Extension of a Currently Approved Collection: Census of Juveniles in Residential Placement

AGENCY: Office of Justice Programs, Department of Justice.

ACTION: 30-day notice.

SUMMARY: The Department of Justice, Office of Justice Programs, will be submitting the following information collection request to the Office of Management and Budget (OMB) for review and approval in accordance with the Paperwork Reduction Act of 1995. The proposed information collection is published to obtain comments from the public and affected agencies. This proposed information collection was previously published in the Federal Register 1t Volume 80 FR 66568, on October 29, 2015, allowing for a 60 day comment period.

DATES: Comments are encouraged and will be accepted for 30 days until February 10, 2016.

FOR FURTHER INFORMATION CONTACT: If you have comments, especially on the estimated public burden or associated response time, suggestions, or need a copy of the proposed information collection instrument with instructions or additional information, please contact: Brecht Donoghue, Office of Juvenile Justice and Delinquency Prevention, Office of Justice Programs, U.S. Department of Justice, 810 Seventh Street NW., Washington, DC 20531 or brecht.donoghue@usdoj.gov. Written comments and/or suggestions can also be directed to the Office of Management and Budget, Officer of Information and Regulatory Affairs, Attention Department of Justice Desk Officer, Washington, DC 20503 or send to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Census of Juveniles in Residential Placement.

3. The agency form number, if any, and the applicable component of the Department sponsoring the collection: The form number is CJ-14, Office of Juvenile Justice and Delinquency Prevention, United States Department of Justice.

4. Affected public who will be asked or required to respond, as well as a brief abstract: The primary respondents are state agencies, local governments, non-profit organizations, and for-profit organizations. This census will be sent to facilities that hold juvenile delinquent and/or juvenile status offenders. It requests information on juvenile offender characteristics (age, sex, race, ethnicity); state of origin; placing agencies for these youth; government level; and the legal status. The data collected is used to inform the Nation's understanding of youth placed out of the home due to some contact with the juvenile justice system.

5. An estimate of the total number of respondents and the amount of time estimated for an average respondent to respond: It is estimated that 2,386 respondents will complete a 3.625-hour questionnaire.

6. An estimate of the total public burden (in hours) associated with the collection: The estimated public burden associated with this application is 8,630.5 hours.

If additional information is required contact: Jerri Murray, Department Clearance Officer, United States Department of Justice, Justice Management Division, Policy and Planning Staff, Two Constitution Square, 145 N Street NE., 3E.405B, Washington, DC 20530.

Dated: January 5, 2016.
Jerri Murray,
Department Clearance Officer for PRA, U.S. Department of Justice.

[FR Doc. 2016-00239 Filed 1-8-16; 8:45 am]

BILLING CODE 4410-18-P